ENVIRONMENTAL PROTECTION AGENCY

[FRC-7943-6]

Proposed Agreement and Covenant Not To Sue Pursuant to the Comprehensive Environmental Response, Compensation, and Liability Act of 1980, as Amended by the Superfund Amendments and Reauthorization Act of 1986; In Re: Tin Corporation Superfund Site, Operable Unit Number One, Texas City, TX

AGENCY: Environmental Protection Agency (EPA).

ACTION: Notice of proposed agreement; request for public comment.

SUMMARY: In accordance with the Comprehensive Environmental Response Compensation, and Liability Act, as amended (“CERCLA”, 42 U.S.C. 9601, et. seq., notice is hereby given of a proposed Agreement and Covenant Not to Sue between the United States, on behalf of the U.S. Environmental Protection Agency (“EPA”) and Phoenix International Terminal, LLC (“Purchaser”). The Purchaser plans to acquire approximately 140 acres of property known as the Tex Tin Corporation Superfund Site, Operable Unit Number One (“Site”), that is currently owned by the Tex Tin Site Custodial Trust. The Purchaser intends to use the property to construct support facilities for the Texas City deep-water terminal at Shoal Point, now under construction, approximately 1.5 miles from the Site. Under the Proposed Agreement, the United States grants a Covenant Not to Sue to the Purchaser with respect to existing contamination at the Site in exchange for the Purchaser's agreement to pay $1,000,000 to the Trustee of the Tex Tin Custodial Trust. The Trustee will pay any outstanding liens on the property and any other expenses required by the Custodial Trust Agreement, and pay the balance of the purchase price left after payment of Trust expenses to EPA. In addition, the Purchaser agrees to provide an irrevocable right of access to representatives of EPA. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 1445 Ross Avenue, Dallas, TX 75202.

DATES: Comments must be submitted on or before August 25, 2005.

ADDRESSES: Comments should be addressed to James Bove, Assistant Regional Counsel, U.S. Environmental Protection Agency, Region VI, 1445 Ross Avenue, Suite 1200, Mail code 6RC-S, Dallas, Texas 75202, and should refer to: In re: Tex Tin Superfund Site, Operable Unit One, Docket No. 6-10-05.

FOR FURTHER INFORMATION CONTACT: A copy of the proposed Agreement and Covenant Not to Sue can be obtained from Patrice Miller, Cost Recovery Officer, U.S. Environmental Protection Agency, Region VI, 1445 Ross Avenue, Suite 200, Mail code 6RC-S, Dallas, Texas 75202, (214) 665-6712.

Dated: July 15, 2005.
Richard Greene,
Regional Administrator, Region VI.

[FR Doc. 05-14733 Filed 7-25-05; 8:45 am]

BILLING CODE 6560-50-M